DEPARTMENT OF COMMERCE

International Trade Administration

[C-533-933]

Hexamethylenetetramine From India: Countervailing Duty Order

AGENCY: Enforcement and Compliance, International Trade Administration, Department of Commerce.

SUMMARY: Based on affirmative final determinations by the U.S. Department of Commerce (Commerce) and the U.S. International Trade Commission (ITC), Commerce is issuing a countervailing duty (CVD) order on hexamethylenetetramine (hexamine) from India.

DATES: Applicable January 7, 2026.

FOR FURTHER INFORMATION CONTACT: Thomas Schauer, AD/CVD Operations, Office I, Enforcement and Compliance, International Trade Administration, U.S. Department of Commerce, 1401 Constitution Avenue NW, Washington, DC 20230; telephone: (202) 482-0410.

SUPPLEMENTARY INFORMATION:

Background

In accordance with sections 705(d) and 777(i) of the Tariff Act of 1930, as amended (the Act), on September 23, 2025, Commerce published its affirmative final determination that countervailable subsidies are being provided to producers and exporters of hexamine from India.¹

¹ See Hexamethylenetetramine from India: Final Affirmative Countervailing Duty Determination and Final Affirmative Critical Circumstances Determination, in Part, 90 FR 45720 (September 23, 2025).

On December 22, 2025, pursuant to section 705(d) of the Act, the ITC notified Commerce of its final affirmative determination that an industry in the United States is materially injured by reason of subsidized imports of hexamine from India within the meaning of section 705(b)(1)(A)(i) of the Act.²

² See ITC's Letter, “Notification of ITC Final Determination,” dated December 22, 2025 (ITC Notification Letter).

Scope of the Order

The product covered by this order is hexamine from India. For a complete description of the scope of the order, see the Appendix to this notice.

Order

As stated above, based on the ITC's final determination that an industry in the United States is materially injured within the meaning of section 705(b)(1)(A)(i) of the Act by reason of subsidized imports of hexamine from India,³ in accordance with section 705(c)(2) of the Act, Commerce is issuing this CVD order. Moreover, because the ITC determined that imports of hexamine from India are materially injuring a U.S. industry, unliquidated entries of subject merchandise from India entered, or withdrawn from warehouse, for consumption, are subject to the assessment of countervailing duties.

³ Id.

Therefore, in accordance with section 706(a) of the Act, Commerce intends to direct U.S. Customs and Border Protection (CBP) to assess, upon further instructions by Commerce, countervailing duties on all relevant entries of hexamine from India, which are entered, or withdrawn from warehouse, for consumption on or after March 7, 2025, the date of publication of the Preliminary Determination, but will not include entries occurring after the expiration of the provisional measures period and before the publication of the ITC's final injury determination under section 705(b) of the Act, as further described in the “Provisional Measures” section of this notice.⁴ Furthermore, in accordance with section 705(c)(4)(B) of the Act, for all companies for which we made an affirmative determination of critical circumstances, we will direct CBP to suspend liquidation of entries of subject merchandise from India entered, or withdrawn from warehouse for consumption, on or after December 7, 2024, which is 90 days prior to the date of publication of the Preliminary Determination in the Federal Register.

⁴ See Hexamethylenetetramine from India: Preliminary Affirmative Countervailing Duty Determination and Alignment of Final Determination with Final Antidumping Duty Determination, 90 FR 11512 (March 7, 2025) (Preliminary Determination).

Suspension of Liquidation and Cash Deposits

In accordance with section 706 of the Act, Commerce intends to instruct CBP to reinstitute the suspension of liquidation of hexamine from India, effective on the date of publication of the ITC's final affirmative injury determination in the Federal Register, and to assess, upon further instruction by Commerce, pursuant to section 706(a)(1) of the Act, countervailing duties on each entry of subject merchandise in an amount based on the net countervailable subsidy rates below. These instructions suspending liquidation will remain in effect until further notice.

Commerce also intends, pursuant to section 706(a)(1) of the Act, to instruct CBP to require cash deposits equal to the amounts as indicated below. Accordingly, effective on the date of publication of the ITC's final injury determination in the Federal Register, CBP must require, at the same time as importers would normally deposit estimated customs duties on this merchandise, a cash deposit equal to the rates listed in the table below. The all-others rate applies to all producers or exporters not specifically listed below, as appropriate.

Estimated Countervailing Duty Subsidy Rates

The estimated countervailing duty subsidy rates are as follows:

⁵ Commerce found the following company to be cross-owned with Kanoria Chemicals and Industries Limited: Vardhan Limited.

Company | Subsidy rate (percent ad valorem)
Kanoria Chemicals and Industries Limited ⁵ | 2.34
Horizon Chemicals | * 139.57
Micro Labs Ltd | * 139.57
Shreenathji Rasayan Private Limited | * 139.57
Rajsha Chemicals Pvt. Ltd | * 139.57
All Others | 2.34
* This rate is based on facts available with adverse inferences.

Provisional Measures

Section 703(d) of the Act states that the suspension of liquidation pursuant to an affirmative preliminary determination may not remain in effect for more than four months. Commerce published the Preliminary Determination on March 7, 2025.⁶ As such, the four-month period beginning on the date of the publication of the Preliminary Determination ended on July 4, 2025.

⁶ See Preliminary Determination.

In accordance with section 703(d) of the Act, we instructed CBP to terminate the suspension of liquidation and to liquidate, without regard to countervailing duties, unliquidated entries of hexamine from India entered, or withdrawn from warehouse, for consumption, on or after July 5, 2024, the date on which the provisional measures expired, until and through the day preceding the date of publication of the ITC's final injury determination in the Federal Register. Suspension of liquidation and the collection of cash deposits will resume on the date of publication of the ITC's affirmative final injury determination in the Federal Register.

Establishment of the Annual Inquiry Service Lists

On September 20, 2021, Commerce published the Final Rule in the Federal Register.⁷ On September 27, 2021, Commerce also published the Procedural Guidance in the Federal Register.⁸ The Final Rule and Procedural Guidance provide that Commerce will maintain an annual inquiry service list for each order or suspended investigation, and any interested party submitting a scope ruling application or request for circumvention inquiry shall serve a copy of the application or request on the persons on the annual inquiry service list for that order, as well as any companion order covering the same merchandise from the same country of origin.

⁷ See Regulations to Improve Administration and Enforcement of Antidumping and Countervailing Duty Laws, 86 FR 52300 (September 20, 2021) (Final Rule).

⁸ See Scope Ruling Application; Annual Inquiry Service List; and Informational Sessions, 86 FR 53205 (September 27, 2021) (Procedural Guidance).

In accordance with the Procedural Guidance, for orders published in the Federal Register after November 4, 2021, Commerce will create an annual inquiry service list segment in Commerce's online e-filing and document management system, Antidumping and Countervailing Duty Electronic Service System (ACCESS), available at https://access.trade.gov, within five business days of publication of the notice of the order. Each annual inquiry service list will be saved in ACCESS, under each case number, and under a specific segment type called “AISL—Annual Inquiry Service List.” ⁹

⁹ This segment will be combined with the ACCESS Segment Specific Information (SSI) field which will display the month in which the notice of the order or suspended investigation was published in the Federal Register, also known as the anniversary month. For example, for an order under case number A-000-000 that was published in the Federal Register in January, the relevant segment and SSI combination will appear in ACCESS as “AISL—January Anniversary.” Note that there will be only one annual inquiry service list segment per case number, and the anniversary month will be pre-populated in ACCESS.

Interested parties who wish to be added to the annual inquiry service list for an order must submit an entry of appearance to the annual inquiry service list segment for the order in ACCESS within 30 days after the date of publication of the order. For ease of administration, Commerce requests that law firms with more than one attorney representing interested parties in an order designate a lead attorney to be included on the annual inquiry service list. Commerce will finalize the annual inquiry service list within five business days thereafter. As mentioned in the Procedural Guidance,¹⁰ the new annual inquiry service list will be in place until the following year, when the Opportunity Notice for the anniversary month of the order is published.

¹⁰ See Procedural Guidance, 86 FR at 53206.

Commerce may update an annual inquiry service list at any time as needed based on interested parties' amendments to their entries of appearance to remove or otherwise modify their list of members and representatives, or to update contact information. Any changes or announcements pertaining to these procedures will be posted to the ACCESS website.

Special Instructions for Petitioner and Foreign Governments

In the Final Rule, Commerce stated that, “after an initial request and placement on the annual inquiry service list, both petitioners and foreign governments will automatically be placed on the annual inquiry service list in the years that follow.” ¹¹ Accordingly, as stated above, the petitioner and the Government of India (GOI) should submit their initial entries of appearance after publication of this notice in order to appear in the first annual inquiry service list for this order. Pursuant to 19 CFR 351.225(n)(3), the petitioner and the GOI will not need to resubmit their entries of appearance each year to continue to be included on the annual inquiry service list. However, the petitioner and the GOI are responsible for making amendments to their entries of appearance during the annual update to the annual inquiry service list in accordance with the procedures described above.

¹¹ See Final Rule, 86 FR at 52335.

Notification to Interested Parties

This notice constitutes the CVD order with respect to hexamine from India, pursuant to section 706(a) of the Act. Interested parties can find a list of antidumping and CVD orders currently in effect at https://enforcement.trade.gov/stats/iastats1.html.

This order is published in accordance with section 706(a) of the Act, and 19 CFR 351.211(b).

Dated: January 2, 2026.
Christopher Abbott,
Deputy Assistant Secretary for Policy and Negotiations, performing the non-exclusive functions and duties of the Assistant Secretary for Enforcement and Compliance.

Appendix

Scope of the Order

The scope of this order covers hexamine in granular form, with a particle size of 5 millimeters or less, whether stabilized or unstabilized, whether or not blended, mixed, pulverized, or grounded with other products, containing 50 percent or more hexamine by weight.

Hexamine is the common name for hexamethylene tetramine (Chemical Abstract Service #100-97-0), and is also referred to as 1,3,5,7-tetraazaadamantanemethenamine; HMT; HMTA; 1,3,5,7-tetraazatricyclo {3.3.1.13,7} decane; 1,3,5,7-tetraaza adamantane; hexamethylenamine. Hexamine has the chemical formula C6H12N4.

Granular hexamine that has been blended with other product(s) is included in this scope when the resulting mix contains 50 percent or more of hexamine by weight, regardless of whether it is blended with inert additives, co-reactants, or any additives that undergo self-condensation.

Subject merchandise includes merchandise matching the above description that has been processed in a third country, including by commingling, diluting, adding or removing additives, or performing any other processing that would not otherwise remove the merchandise from the scope of this order if performed in the subject country.

Merchandise covered by the scope of this order can be classified in the Harmonized Tariff Schedule (HTSUS) of the United States under the subheading 2933.69.5000. The HTSUS subheading and Chemical Abstracts Service registry number are provided for convenience and customs purposes only; however, the written description of the scope is dispositive.

[FR Doc. 2026-00093 Filed 1-6-26; 8:45 am]

BILLING CODE 3510-DS-P